COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) previously furnished by such agencies.

DATES: Comments must be received on or before: February 27, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following service(s) are proposed for addition to the Procurement List for production by the nonprofit agencies listed:

Service(s)

Service Type: Custodial and Related Services

Mandatory for: GSA PBS Region 4, Carroll A. Campbell Jr. U.S. Courthouse, Greenville, SC

Designated Source of Supply: SC Vocations & Individual Advancement, Inc., Greenville, SC

Contracting Activity: PUBLIC BUILDINGS SERVICE, PBS R4 CAROLINAS CONTRACTS

Deletions

The following product(s) are proposed for deletion from the Procurement List:

Product(s)

NSN(s)-Product Name(s):

4240-00-NSH-0019—Hearing Protection, Behind-the-Head Earmuff, NRR 29Db, PR

4240-00-SAM-0026—Hearing Protection, Behind-the-Head Earmuff, NRR 29Db, CS/10

4240-00-SAM-0025—Hearing Protection, Over-the-Head Earmuff, NRR 30dB, CS/10

4240-00-NSH-0021—Hearing Protection, Behind-the-Head Earmuff, NRR 26Db

4240-00-NSH-0023—Hearing Protection, Behind-the-Head Earmuff, NRR 21Db

Designated Source of Supply: Access: Supports for Living Inc., Middletown, NY

Contracting Activity: DLA TROOP SUPPORT, PHILADELPHIA, PA

NSN(s)—Product Name(s):

6645-01-584-0892—Clock, Mini Desk, Rosewood

8115-01-499-0898—Shipping Box, Type II, Style D, Brown, XD-4, 6′ x 9′ x 4-½′

Designated Source of Supply: Tarrant County Association for the Blind, Fort Worth, TX

Contracting Activity: GSA/FAS ADMIN SVCS ACQUISITION BR(2, NEW YORK, NY

Michael R. Jurkowski,
Acting Director, Business Operations.

[FR Doc. 2022-01781 Filed 1-27-22; 8:45 am]

BILLING CODE 6353-01-P